DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On August 24, 2023, OFAC determined that the property and interests in property subject to U.S. jurisdiction of the following persons are blocked under the relevant sanctions authorities listed below.

Individuals

1. NYAMVUMBA, Andrew (a.k.a. NYAMVUMBA, Andre), Kibagabaga Plot 9917, Nyarutarama, Kigali, Rwanda; DOB 01 Jan 1973; POB Kigali, Rwanda; alt. POB Kampala, Uganda; nationality Rwanda; citizen Rwanda; Gender Male; Passport RW01472 (Rwanda) (individual) [DRCONGO].

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity, including any armed group, that has, or whose members have been responsible for or complicit in, or have engaged in, directly or indirectly, actions or policies that threaten the peace, security or stability of the DRC.

2. PROTOGENE, Ruvugayimikore (a.k.a. MIDENDE, Zorro; a.k.a. RUHINDA, Gaby), Nyiragongo, North Kivu, Congo, Democratic Republic of the; DOB 1970; alt. DOB 1968 to 1969; POB Karandaryi Cell, Mwiyanike Sector, Karago Commune, Gisenyi Prefecture, Rwanda; alt. POB Nyabihu District, Western Province, Rwanda; nationality Rwanda; Gender Male (individual) [DRCONGO] (Linked To: FORCES DEMOCRATIQUES DE LIBERATION DU RWANDA).

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity whose property and interests in property are blocked pursuant to E.O. 13413, as amended by E.O. 13671.

3. BYAMUNGU, Bernard (a.k.a. MHESHE, Bernard Byamungu), Congo, Democratic Republic of the; DOB 10 Oct 1974; POB Ziralo, Democratic Republic of the Congo; nationality Congo, Democratic Republic of the; Gender Male (individual) [DRCONGO] (Linked To: M23).

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity whose property and interests in property are blocked pursuant to E.O. 13413, as amended by E.O. 13671.

4. TOKOLONGA, Salomon (a.k.a. BENDET, Salomon Tokolonga), Congo, Democratic Republic of the; DOB 17 Apr 1972; POB Kishandja, Democratic Republic of the Congo; nationality Congo, Democratic Republic of the; Gender Male (individual) [DRCONGO].

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity, including any armed group, that has, or whose members have been responsible for or complicit in, or have engaged in, directly or indirectly, actions or policies that threaten the peace, security or stability of the DRC.

5. HAKIZIMANA, Apollinaire (a.k.a. LEPIC, Amikwe; a.k.a. “POETE”), Rutshuru, North Kivu, Congo, Democratic Republic of the; DOB 1964; POB Rugogwe Cell, Mwiyanike Sector, Karago Commune, Gisenyi Prefecture, Rwanda; alt. POB Rubavu District, Western Province, Rwanda; nationality Rwanda; Gender Male (individual) [DRCONGO] (Linked To: FORCES DEMOCRATIQUES DE LIBERATION DU RWANDA).

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity whose property and interests in property are blocked pursuant to E.O. 13413, as amended by E.O. 13671.

6. UWIMBABAZI, Sebastien (a.k.a. KIMENYI, Gilbert; a.k.a. KIMENYI, Nyembo; a.k.a. “MANZI”; a.k.a. “NYEMBO”), Rutshuru, North Kivu, Congo, Democratic Republic of the; DOB 1968; POB Gatoki Cell, Murunda Sector, Rutsiro Commune, Kibuye Prefecture, Rwanda; alt. POB Rutsiro District, Western Province, Rwanda; nationality Rwanda; Gender Male (individual) [DRCONGO] (Linked To: FORCES DEMOCRATIQUES DE LIBERATION DU RWANDA).

Designated pursuant to section 1(a)(ii)(E) of Executive Order 13413 of October 27, 2006, “Blocking Property of Certain Persons Contributing to the Conflict in the Democratic Republic of the Congo,” as amended by Executive Order 13671 of July 8, 2014, “Taking Additional Steps To Address the National Emergency With Respect to the Conflict in the Democratic Republic of the Congo” for being a leader of an entity whose property and interests in property are blocked pursuant to E.O. 13413, as amended by E.O. 13671.

Dated: August 24, 2023.
Bradley T. Smith,
Deputy Director, Office of Foreign Assets Control, U.S. Department of the Treasury.

[FR Doc. 2023-18750 Filed 8-29-23; 8:45 am]

BILLING CODE 4810-AL-P